DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before August 7, 2020.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on July 1, 2020.
Donald P. Burger,
Chief, General Approvals and Permits Branch.

Special Permits Data—Granted
Application No. | Applicant | Regulation(s) affected | Nature of the special permits thereof
9168-M | Berlin Packaging LLC | 173.13(a), 173.13(b), 173.13(c)(1)(ii), 173.13(c)(1)(iv), 173.13(c)(2)(iii) | To modify the special permit to clarify quantities of hazmat authorized per packaging.
14584-M | Techknowserv Corp | 173.302a(b)(2), 173.302a(b)(3), 173.302a(b)(4), 173.302a(b)(5), 180.205(c), 180.205(f), 180.205(g), 180.205(i), 180.209(a), 180.209(a) | To modify the special permit to authorize additional cylinders to be requalified by these methods.
14799-M | Joyson Safety Systems Sachsen Gmbh | 173.301(a)(1), 173.302a | To modify the special permit to remove the five year from manufacture restriction on transporting.
14833-M | Joyson Safety Systems Aschaffenburg Gmbh | 173.301(a)(1), 173.302a, 178.65(f)(2) | To modify the special permit to remove the five year from manufacture restriction on transporting the articles.
15536-M | Techknowserv Corp | 180.507, 180.509, 180.519(a) | To modify the special permit to authorize additional tank cars.
15610-M | Techknowserv Corp | 173.302a(b)(2), 173.302a(b)(3), 173.302a(b)(4), 173.302a(b)(5), 180.205(c), 180.205(f), 180.205(g), 180.205(i), 180.209(a), 180.213 | To modify the special permit to authorize additional cylinders.
15963-M | Jack Harter Helicopters, Inc | 172.200, 175.75, 172.300, 172.400, 173.27, 175.30, 175.33, 175.75 | To modify the special permit to authorize additional hazmat and to clarify certain hazard communications, quantity limitations and loading and stowage requirements.
16504-M | iDrink Products Inc | 171.2(k), 172.200, 172.202(a)(5)(iii)(B), 172.300, 172.500, 172.400, 172.700(a) | To modify the special permit to bring it in line with other permits authorizing the transportation in commerce of certain used DOT Specification 3AL cylinders and containers that contain carbon dioxide, but not necessarily in an amount qualifying as hazardous material.
20524-M | Wilhelm Schmidt Gmbh | 172.102(c)(4), 178.705(c)(2)(ii) | To modify the special permit to authorize an additional 6.1 hazmat.
20541-M | ISGEC Heavy Engineering Ltd | 179.300-19(a) | To modify the special permit to clarify test and chemical analysis observations.
20687-M | Department Of Defense | 172.203(a), 172.203(k), 172.301(c) | To modify the special permit to add additional Division 6.1 hazmat.
20861-M | Ayalytical Instruments Inc | 173.120(c) | To modify the special permit to authorize an additional ASTM Standard Test Method D6450.
20983-N | Roth Global Plastics Inc | 173.302a(a)(1) | To authorize the transportation in commerce of Division 2.2 materials in non-DOT specification cylinders (accumulators).
20986-N | Olin Corporation | 172.302(c), 173.26, 173.314(c), 179.13(b) | To authorize the transportation in commerce of tank cars containing chlorine in quantities exceeding those authorized in the HMR.
21018-N | Packaging And Crating Technologies, LLC | 172.200, 172.300, 172.400, 172.600, 172.700(a), 173.185(b), 173.185(c), 173.185(f) | To authorize the manufacture, mark, sale, and use of UN 4G packaging with a specially-designed, fire-suppressing liner for the transportation of damaged, defective, or recalled lithium ion cells and batteries, including those contained in or packed with equipment, without being subject to certain hazard communication requirements.
21028-N | Neutron Holdings, Inc | 173.185(f) | To authorize the manufacture, mark, sale and use of alternative packaging for the transportation in commerce of damaged, defective, or recalled lithium ion cells and batteries and lithium metal cells and batteries and these cells or batteries contained in or packed with equipment.
21029-N | U.S. Cryogenics, Inc | 172.203(a), 172.301(c), 180.211(c)(2)(i) | To authorize the transportation in commerce of Dewars that have been repaired but have not been pressure tested in accordance with the specifications under which they were originally manufactured.
21036-N | Triad National Security, LLC | 172.203(a), 172.301(c), 173.22(a)(4)(i), 173.22(a)(4)(ii), 173.24(f)(2) | To authorize the transportation in commerce of hazardous materials packaged in packaging that has not been closed in accordance with the manufacturer's closure instructions.

Special Permits Data—Denied
Application No. | Applicant | Regulation(s) affected | Nature of the special permits thereof
21002-N | Calumet Branded Products, LLC | 173.150(b)(2) | To authorize the transportation in commerce of flammable liquids as limited quantities when the inner packaging capacity exceeds the HMR authorization.
21045-N | Tradewater LLC | 172.200, 172.700(a), 172.400 | To authorize the transport of non-refillable DOT 39 gas cylinders containing refrigerant gases with alternate documentation and hazard communication requirements.
21053-N | Wisconsin Central Ltd | 172.203(a), 174.24, 174.26(a) | To authorize the use of electronic means to maintain and communicate on-board train consist and shipping paper information in lieu of paper documentation when hazardous materials are transported by rail.

Special Permits Data—Withdrawn
Application No. | Applicant | Regulation(s) affected | Nature of the special permits thereof
21064-N | Medichem Sa | 173.241 | To authorize the transportation in commerce by cargo aircraft of an Environmentally Hazardous Substance, liquid, n.o.s. in Intermediate Bulk Containers.

[FR Doc. 2020-14620 Filed 7-7-20; 8:45 am]

BILLING CODE P